DEPARTMENT OF THE INTERIOR

Bureau of Reclamation

[DOI-2019-0004; RR83570000, 190R5065C6, RX.59389832.1009676]

Privacy Act of 1974; System of Records

AGENCY: Bureau of Reclamation, Interior.

ACTION: Notice of a modified system of records.

SUMMARY: Pursuant to the provisions of the Privacy Act of 1974, as amended, the Department of the Interior proposes to consolidate ten existing Bureau of Reclamation Privacy Act systems of records related to land and realty management files into the modified and retitled Bureau of Reclamation system of records, “INTERIOR/Reclamation-14, Land and Realty Program.” This system of records administers the Bureau of Reclamation inventory of all land, facilities, and waterbodies under Reclamation's jurisdiction. The Bureau of Reclamation is proposing to add new routine uses, modify existing routine uses to provide clarification, and update all sections of the notice to reflect the expanded scope of the modified system. This modified system will be included in the Department of the Interior's inventory of record systems.

DATES: This modified system will be effective upon publication. New or modified routine uses will be effective October 30, 2019. Submit comments on or before October 30, 2019.

ADDRESSES: You may send comments identified by docket number [DOI-2019-0004] by any of the following methods:

• Federal e-Rulemaking Portal: http://www.regulations.gov. Follow the instructions for sending comments.

• Email: DOI_Privacy@ios.doi.gov. Include docket number [DOI-2019-0004] in the subject line of the message.

• Mail: Teri Barnett, Departmental Privacy Officer, U.S. Department of the Interior, 1849 C Street NW, Room 7112, Washington, DC 20240.

• Hand Delivery/Courier: Teri Barnett, Departmental Privacy Officer, U.S. Department of the Interior, 1849 C Street NW, Room 7112, Washington, DC 20240.

Instructions: All submissions received must include the agency name and docket number. All comments received will be posted without change to http://www.regulations.gov, including any personal information provided.

Docket: For access to the docket to read background documents or comments received, go to http://www.regulations.gov.

FOR FURTHER INFORMATION CONTACT: Regina Magno, Associate Privacy Officer, Bureau of Reclamation, P.O. Box 25007, Denver, CO 80225, email at privacy@usbr.gov or by telephone at (303) 445-3326.

SUPPLEMENTARY INFORMATION:

I. Background

The Department of the Interior (DOI), Bureau of Reclamation (Reclamation) manages a land and realty program that includes records maintained on individuals covered by ten systems of records notices:

(1) INTERIOR/WBR-14, Land Exchange;

(2) INTERIOR/WBR-15, Land Settlement Entries;

(3) INTERIOR/WBR-17, Lands—Leases, Sales, Rentals, and Transfers;

(4) INTERIOR/WBR-19, Mineral Location Entries;

(5) INTERIOR/WBR-22, Oil and Gas Applications;

(6) INTERIOR/WBR-28, Real Property and Right-of-Way Acquisitions;

(7) INTERIOR/WBR-29, Right-of-Way Applications;

(8) INTERIOR/WBR-32, Special Use Applications, Licenses, and Permits;

(9) INTERIOR/WBR-41, Permits; and

(10) INTERIOR/WBR-43, Real Estate Comparable Sales Data Storage.

During a review of these notices, Reclamation determined that these systems contained duplicative content and were managed by one system manager in the land and realty program. In an effort to streamline land and realty program functions, improve consistency, eliminate duplicative content and promote transparency, Reclamation is proposing to consolidate the ten systems of records into the INTERIOR/WBR-14, Land Exchange, system and change the title to “INTERIOR/Reclamation-14, Land and Realty Program” to reflect the purpose and scope of the modified system. This modified system will help Reclamation manage land and realty program activities and maintain an inventory of all land, facilities, and waterbodies under Reclamation's jurisdiction. The system of records will include the following land and realty actions: use authorization management; land settlement records; sales; transfers; disposals; mineral location entries, mining claims; oil and gas applications; real property and right-of-way acquisitions; real property interest applications; and status of land interests held for project purposes. The ten Reclamation system of records notices listed above will remain in effect until the proposed routine uses outlined in this notice become effective. Reclamation will subsequently rescind the other nine notices.

This notice reorganizes the sections and updates section titles in accordance with the Office of Management and Budget (OMB) Circular A-108, “Federal Agency Responsibilities for Review, Reporting, and Publication under the Privacy Act.” Additionally, Reclamation is modifying all existing routine uses to provide clarity and transparency. Routine use A was modified to further clarify disclosures to the Department of Justice or other Federal agencies when necessary in relation to litigation or judicial proceedings. Routine uses B, D, and E have been modified to provide additional clarification on external organizations and circumstances where disclosures are compatible with the purpose of the system or are proper and necessary to administer an internal program to manage a thorough inventory of all land, facilities, and waterbodies under Reclamation's jurisdiction.

Modified routine use J and proposed routine use K allow Reclamation to share information with appropriate Federal agencies or entities when reasonably necessary to respond to a breach of personally identifiable information and to prevent, minimize, or remedy the risk of harm to individuals or the Federal Government, or assist an agency in locating individuals affected by a breach in accordance with OMB Memorandum M-17-12, “Preparing for and Responding to a Breach of Personally Identifiable Information.”

Proposed routine uses C, F, G, H, I, and L through R facilitate sharing of information with agencies and organizations to ensure the efficient management of all land, facilities, and waterbodies under Reclamation's jurisdiction, promote the integrity of the records in the system, or carry out a statutory responsibility of Reclamation or the Federal Government. Proposed routine use C facilitates sharing of information with the Executive Office of the President to resolve issues concerning individual's records. Routine use F allows Reclamation to share information with agencies when relevant for hiring and retention, or issuance of security clearance, license, contract, grant or benefit. Routine use G allows Reclamation to share information with the National Archives and Records Administration (NARA) to conduct records management inspections. Routine use H allows Reclamation to share information with external entities, such as state, territorial and local governments, and tribal organizations needed in response to court orders and/or for discovery purposes related to litigation. Routine use I allows Reclamation to share information with an expert, consultant, grantee, or contractor (including employees of the contractor) of DOI that performs services requiring access to these records on DOI's behalf to carry out the purposes of the system. Routine use L allows Reclamation to share information with the OMB during the coordination and clearance process in connection with legislative affairs. Routine use M allows Reclamation to share information with the Department of the Treasury to recover debts owed to the United States. Routine use N allows Reclamation to share information with the news media and the public if there is a legitimate public interest in the disclosure of the information. Routine use O allows Reclamation to share information with a Federal agency, state, or local government to transfer administration of the land for transmission of power, recreation, fish and wildlife activities, and other purposes as required. Routine use P allows Reclamation to share information with local county governments to transmit deeds and record ownership data. Routine use Q allows Reclamation to share information with appropriate irrigation districts to furnish a copy of a deed in order to advise of an available right-of-way for operating the irrigation system. Routine use R allows Reclamation to share information with DOJ in order to obtain a title opinion.

II. Privacy Act

The Privacy Act of 1974, as amended, embodies fair information practice principles in a statutory framework governing the means by which Federal agencies collect, maintain, use, and disseminate individuals' personal information. The Privacy Act applies to records about individuals that are maintained in a “system of records.” A “system of records” is a group of any records under the control of an agency for which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The revised INTERIOR/Reclamation-14, Land and Realty Program, system of records notice is published in its entirety below. In accordance with 5 U.S.C. 552a(r), DOI has provided a report of this system of records to OMB and Congress.

III. Public Participation

You should be aware your entire comment including your personal identifying information, such as your address, phone number, email address, or any other personal identifying information in your comment, may be made publicly available at any time. While you may request to withhold your personal identifying information from public review, we cannot guarantee we will be able to do so.

SYSTEM NAME AND NUMBER:

INTERIOR/Reclamation-14, Land and Realty Program.

SECURITY CLASSIFICATION:

Unclassified.

SYSTEM LOCATION:

Bureau of Reclamation records in this system are maintained at:

(1) Office of Policy and Administration, Asset Management Division, P. O. Box 25007, Denver Federal Center, Denver, CO 80225;

(2) Pacific Northwest Regional Office, 1150 North Curtis Road, Suite 100, Boise, ID 83706;

(3) Mid-Pacific Regional Office, Federal Office Building, 2800 Cottage Way, Sacramento, CA 95825;

(4) Lower Colorado Regional Office, 500 Fir Street, Boulder City, NV 89005;

(5) Upper Colorado Regional Office, 125 South State Street, Room 8100, Salt Lake City, UT 84138;

(6) Great Plains Regional Office, 2021 4th Avenue North, Billings, MT 59101; and

(7) Area and Field offices located throughout the 17 western United States. Reclamation's Area and Field offices can be found at www.usbr.gov.

SYSTEM MANAGER(S):

Manager, Asset Management Division, Office of Policy and Administration, Bureau of Reclamation, P. O. Box 25007, Denver, CO 80225.

AUTHORITY FOR MAINTENANCE OF THE SYSTEM:

The Reclamation Act of 1902, (43 U.S.C. 391 et seq.), as amended and supplemented; the Reclamation Project Act of 1939, (43 U.S.C. 485), as amended and supplemented; the Mineral Leasing Act of Feb. 25, 1920, as amended, 30 U.S.C. 181 et seq.; 43 CFR part 429, Use of Bureau of Reclamation Land, Facilities, and Waterbodies; 44 U.S.C. 3101; An Act to Authorize Certain Desert-Land Claimants Who Entered the Military or Naval Service of the United States During the War with Germany to Make Final Proof of Their Entries, 41 Stat. 1201 (Mar. 1, 1921), as amended by 42 Stat. 348 (Dec. 15, 1921), and as further amended by 42 Stat. 492 (Apr. 7, 1922); the Fact Finders Act of Dec. 5, 1921, Section 4 (43 Stat. 702); Exchange of Unpatented Entries, 43 U.S.C. 423c (May 26, 1926, c. 383, Section 44, 44 Stat. 648); Lands Capable of Irrigation Works, 43 U.S.C. 617h; the Farm Unit Exchange Act of Aug. 13, 1953, 43 U.S.C. 451 et seq. (67 Stat. 566); the Reappraisal of Unsold Town Lots Act of Jun. 11, 1910, 43 U.S.C. 564 (36 Stat. 465); the Sale of Surplus Acquired Lands Act of Feb. 2, 1911, 43 U.S.C. 374 (36 Stat. 895); the Sale of Surplus Improved Public Lands Act of May 20, 1920, 43 U.S.C. 375 (41 Stat. 605); the Sale of Unproductive Public Land Act of May 16, 1930, 43 U.S.C. 424-424c (46 Stat. 367); the Taylor Grazing Act of June 28, 1934 (48 Stat. 1269, as amended; 43 U.S.C. 315 et seq.); the Columbia Basin Project Act of Mar. 10, 1943, Section 4 (57 Stat. 14); the Gila Project Act of Jul. 30, 1947 (61 Stat. 377); the Vacation of Withdrawals of Public lands Containing Minerals Act of Apr. 23, 1932 (47 Stat. 136); 43 U.S.C. 371, et seq.; the Uniform Relocation Assistance and Real Property Acquisition Policies Act of 1970, 42 U.S.C. 4651 et seq.; and the Rights of Way Reserved to United States for Canals and Ditches Act of Aug. 30, 1890 (26 Stat. 391), presently found in 43 U.S.C. 321.

PURPOSE(S) OF THE SYSTEM:

This system helps Reclamation manage an inventory of all land, facilities, and waterbodies within its jurisdiction, and administer land and realty actions, such as use authorization management, land settlement records, sales, transfers, disposals, mineral location entries, mining claims, oil and gas applications, real property and right-of-way acquisitions, real property interest applications, and status of land interests held for project purposes.

CATEGORIES OF INDIVIDUALS COVERED BY THE SYSTEM:

Individuals covered by this system include members of the public, applicants for the land and realty program, individual landowners, county recorders, appraisers, officials from title companies, and officials of Federal and non-Federal entities, including corporate and commercial stakeholders, whose records are maintained in this system. Note: This system contains records concerning corporations and other business entities, which are not subject to the Privacy Act. However, records pertaining to individuals acting on behalf of corporations and other business entities may reflect personal information that may be maintained in this system of records.

CATEGORIES OF RECORDS IN THE SYSTEM:

The system contains records related to the use of Reclamation land, facilities, or waterbodies. Records include land and realty actions; use authorization management; land settlement records; sales; transfers; disposals; mineral location entries; mining claims; oil and gas applications; real property and right-of-way acquisitions; real property interest applications; and status of land interests held for project purposes. Records also include Reclamation contracts involving land sales and purchases, leases, rentals, contracts, exchanges, and transferred ownership within Federal Reclamation projects; Land Office Notices, which are notices of compliance with the Homestead Act that verifies the homesteader/applicant has met all program requirements; general exchange of unpatented or private lands that have been determined to be insufficient to support a family; Notice of Availability of advertising land requests, contracts, and land renewals of Reclamation land interest; mining claims under the Mineral Leasing Act of February 25, 1920, as amended, 30 U.S.C. 181 et seq.; acquisitions of land or right-of-way information, including correspondence, appraisal reports, land descriptions, releases of prior liens, licenses, permits, written correspondence giving permission to enter private land, contracts to purchase, landowner and Reclamation agreements, Notice of Exercise of Right-of-Way, payment history, condemnation actions, and other supporting correspondence as it relates to each transaction; Bureau of Land Management right-of-way applicant information on Reclamation land that is a requirement for certain right-of-way actions that need to become part of the legal land record; land exchange actions; and appeals as identified in 43 CFR part 429, Use of Bureau of Reclamation Land, Facilities, and Waterbodies.

These records may contain information such as name; email address; mailing address; work or personal phone number; veteran status; financial information; Social Security number; tax identification number; name of insurance carrier; financial assets to verify whether the individuals have the financial viability of the proposed land and realty actions; applicant's ability to meet program requirements as outlined in Reclamation's authorities; historical documentation related to health information from applicants; and legal parcel, land description which identifies property characteristics, or contract number.

RECORD SOURCE CATEGORIES:

Records in this system are obtained from individual members of the public, applicants, Federal and non-Federal entities including corporate and commercial stakeholders whose records are maintained, individual landowners, county recorders, appraisers, title companies, and from other internal DOI systems as set forth under Reclamation regulations and policies.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office in response to a written inquiry that an individual covered by the system has made to the office.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To another Federal agency, state, or local government to transfer administration of the land for transmission of power, recreation, fish and wildlife activities, and other purposes as required. Transfer of information is necessary in order to effectively and efficiently facilitate operation and maintenance requirements.

P. To a local county government to transmit deeds in order to record ownership data. For certain documents, it is required that appropriate land records be recorded in the county courthouse.

Q. To the appropriate irrigation district to furnish a copy of a deed in order to advise of an available right-of-way for operating the irrigation system. Transfer of information is necessary in order to effectively and efficiently facilitate operation and maintenance requirements.

R. To the DOJ for title opinion on land and realty actions by Reclamation. When appropriate, Reclamation will request DOJ to provide a title opinion on certain land and realty actions.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966, as amended (31 U.S.C. 3701(a)(3)).

POLICIES AND PRACTICES FOR STORAGE OF RECORDS:

Land and realty program records are managed securely at Reclamation offices. Paper records are contained in file folders stored in locked file cabinets at secured Reclamation facilities. Electronic records are contained in removable drives, computers, email, and electronic databases.

POLICIES AND PRACTICES FOR RETRIEVAL OF RECORDS:

Records are retrieved by the individual's name, legal parcel, land description which identifies property characteristics, or contract number.

POLICIES AND PRACTICES FOR RETENTION AND DISPOSAL OF RECORDS:

Records in this system are currently maintained in accordance with the following Bureau of Reclamation Records Retention Schedule: ENV-8.00 Clean Water Act Management—5 years; LND-3.00 Land Acquisition—Permanent; LND-6.00 Land Management—Permanent; and WTR-4.03 Water Sales/Delivery Contract/Exchange of Water—Permanent. Permanent records are maintained either at the office of record or transferred to the Federal Records Center or NARA when volume warrants.

A new Department Records Schedule (DRS) has been submitted to the NARA and is pending approval. Once NARA approves the DRS the records related to this system, records will be maintained in accordance with the following DRS: 2.1.4.13 Natural and Cultural Resources Environmental Land and National Environmental Policy Act, 10 years; 2.2.3.18 Sustainably Manage Land Use, 25 years; 2.2.3.19 Sustainably Manage Land Use, Recreation and Planning—Management Plans and Reports, permanent; and 2.2.4.23 Sustainably Manage Water, permanent. These record schedules cover transactions on case files documenting correspondence, memorandums, email and other documentation containing contracts, deeds, and other supporting papers documenting the use authorization, sale, delivery, transfer, exchange, and disposal of land or water in which payment is required. This also includes documentation related to settlement and land entries as well as use authorization applications including licenses, and permits issued to Reclamation or by Reclamation. File closures vary and will fall under one of these methods: (1) Files are closed after unconditional sale or release by the Government restrictions (mortgages or other liens), transfer, exchange, or disposal of Reclamation land interest; (2) Files are closed after termination of said transaction or when no longer needed for reference, whichever is earlier; and (3) Some files are closed at the end of each calendar year or when the individual's permit expires or the termination of a contract.

Paper records are disposed of by shredding or pulping, and records contained on electronic media format are degaussed or erased in accordance with the applicable records retention schedule, 384 Department Manual 1, and NARA guidelines.

ADMINISTRATIVE, TECHNICAL, AND PHYSICAL SAFEGUARDS:

The records contained in this system are safeguarded in accordance with 43 CFR 2.226 and other applicable security rules and policies. Records are accessible only by authorized DOI employees, and other Federal Government agencies and contractors who have contractual agreements with Reclamation to conduct activities related to land and realty. During normal hours of operation, paper records are secured in locked file cabinets under the control of authorized personnel. Computers and servers on which electronic records are stored are located in secured DOI and/or contractor facilities with physical, technical, and administrative levels of security such as access codes, security codes, and security guards, to prevent unauthorized access to the DOI network and information assets. Access to DOI networks and data requires a valid username and password, and is limited to DOI personnel and/or contractors who have a need to know of the information for the performance of their official duties. Access to contractor's networks and data requires restricted access limited to authorized personnel. Computerized records systems follow the National Institute of Standards and Technology privacy and security standards as developed to comply with the Privacy Act of 1974 as amended, 5 U.S.C. 552a; the Paperwork Reduction Act of 1995, Public Law 104-13; the Federal Information Security Modernization Act of 2014, Public Law 113-283, as codified at 44 U.S.C. 3551, et seq.; and the Federal Information Processing Standard 199, Standards for Security Categorization of Federal Information and Information Systems. Security controls include user identification, passwords, database permissions, encryption, firewalls, audit logs, and network system security monitoring, and software controls. System administrators and authorized personnel are trained and required to follow established internal security protocols and must complete all security, privacy, and records management training and sign the DOI Rules of Behavior.

RECORD ACCESS PROCEDURES:

An individual requesting records on himself or herself should send a signed, written inquiry to the System Manager identified above. The request must include the specific office that maintains the record to facilitate location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the System Manager as identified above. The request must include the specific office that maintains the record to facilitate location of the applicable records. A request for corrections or removal must meet the requirements of 43 CFR 2.246.

NOTIFICATION PROCEDURES:

An individual requesting notification of the existence of records on himself or herself should send a signed, written inquiry to the System Manager as identified above. The request must include the specific office that maintains the record to facilitate location of the applicable records. The request envelope and letter should both be clearly marked “PRIVACY ACT INQUIRY.” A request for notification must meet the requirements of 43 CFR 2.235.

EXEMPTIONS PROMULGATED FOR THE SYSTEM:

None.

HISTORY:

• INTERIOR/WBR-14, Land Exchange, 64 FR 29876 (June 3, 1999); modification published 73 FR 20949 (April 17, 2008).

• INTERIOR/WBR-15, Land Settlement Entries, 64 FR 29876 (June 3, 1999); modification published 73 FR 20949 (April 17, 2008).

• INTERIOR/WBR-17, Lands—Leases, Sales, Rentals, and Transfers 64 FR 29876 (June 3, 1999); modification published 73 FR 20950 (April 17, 2008).

• INTERIOR/WBR-19, Mineral Location Entries, 64 FR 29876 (June 3, 1999); modification published 73 FR 20949 (April 17, 2008).

• INTERIOR/WBR-22, Oil and Gas Applications, 64 FR 29876 (June 3, 1999); modification published 73 FR 20949 (April 17, 2008).

• INTERIOR/WBR-28, Real Property and Right of Way Acquisition 64 FR 29876 (June 3, 1999); modification published 73 FR 20949 (April 17, 2008).

• INTERIOR/WBR-29, Right of Way Applications, 64 FR 29876 (June 3, 1999); modification published 73 FR 20949 (April 17, 2008).

• INTERIOR/WBR-32, Special Use Applications, Licenses, and Permits, 64 FR 29876 (June 3, 1999); modification published 73 FR 20949 (April 17, 2008).

• INTERIOR/WBR-41, Permits, 64 FR 29876 (June 3, 1999); modification published 73 FR 20949 (April 17, 2008).

• INTERIOR/WBR-43, Real Estate Comparable Sales Data Storage, 64 FR 29876 (June 3, 1999); modification published 73 FR 20949 (April 17, 2008).

Teri Barnett,
Departmental Privacy Officer, Department of the Interior.

[FR Doc. 2019-21072 Filed 9-27-19; 8:45 am]

BILLING CODE 4332-90-P